DEPARTMENT OF THE INTERIOR

Bureau of Land Management

[OR-025-1430-EU: G-01-0070]

Realty Action: Partial Cancellation of Sale of Public Land in Harney County, OR

AGENCY: Bureau of Land Management (BLM), DOI.

ACTION: Partial cancellation of Notice of Realty Action—Sale of public land.

SUMMARY: The Notice of Realty Action—Sale of Public Land in Harney County, Oregon, published in the Federal Register, Volume 65, No. 222, on November 16, 2000, on Pages 69327-69329 is hereby cancelled as it relates to the sale of the following parcel only:

OR-55327—W.M., T. 27 S., R. 35E., Sec. 7, Lots 3, 4, NE¼SW¼; Sec. 18, Lots 1,2.

On December 19, 2000, in response to the Notice of Realty Action, a protest was filed concerning the sale of Parcel No. OR-55327. The parcel is being withdrawn from sale pending review of the merits of the protest. Upon resolution of the protest the parcel may be included in future offerings. All other provisions of the Notice of Realty Action remain in effect.

On January 16, 2001 this notice also opens the land to the discretionary land laws which include leases, licenses, permits, rights-of-way, and disposal of mineral or vegetative resources other than under the mining laws.

ADDRESSES: Comments should be submitted to the Three Rivers Resource Area Field Manager, HC 74-12533 Hwy 20 West, Hines, Oregon 97738.

FOR FURTHER INFORMATION CONTACT: Detailed information concerning this sale cancellation is available from Holly LaChapelle, Land Law Examiner, Three Rivers Resource Area at the above address, phone (541) 573-4501.

Dated: January 4, 2001.
Craig M. Hansen,
Three Rivers Resource Area Field Manager.

[FR Doc. 01-1129 Filed 1-12-01; 8:45 am]

BILLING CODE 4310-33-M